DEPARTMENT OF STATE

[Public Notice: 10542]

Certification Pursuant to Sections 7045(a)(3)(A) of the Department of State, Foreign Operations, and Related Programs Appropriations Act, 2018

By virtue of the authority vested in me as the Secretary of State, including pursuant to section 7045(a)(3)(A) of the Department of State, Foreign Operations, and Related Programs Appropriations Act, 2018 (Div. K, Pub. L. 115-141) (SFOAA), I hereby certify that the central government of Honduras is:

• Informing its citizens of the dangers of the journey to the southwest border of the United States;

• combating human smuggling and trafficking;

• improving border security, including preventing illegal migration, human smuggling and trafficking, and trafficking of illicit drugs and other contraband; and

• cooperating with United States Government agencies and other governments in the region to facilitate the return, repatriation, and reintegration of illegal migrants arriving at the southwest border of the United States who do not qualify for asylum, consistent with international law.

This certification shall be published in the Federal Register and, along with the accompanying Memorandum of Justification, shall be reported to Congress.

Dated: August 11, 2018.
Michael R. Pompeo,
Secretary of State.

[FR Doc. 2018-19775 Filed 9-11-18; 8:45 am]

BILLING CODE 4710-29-P